DEPARTMENT OF ENERGY

Federal Energy Regulatory Commission

[Docket No. IN07-26-000]

Amaranth Advisors L.L.C., Amaranth LLC, Amaranth Management Limited Partnership, Amaranth International Limited, Amaranth Partners LLC, Amaranth Capital Partners LLC, Amaranth Group Inc., Amaranth Advisors (Calgary) ULC, Brian Hunter, Matthew Donohoe; Supplemental Notice of Designation of Commission Staff

May 6, 2008.

On February 1, 2008, a notice was issued designating the staff of the Office of Enforcement as non-decisional in deliberations by the Commission in this docket, with certain limited exceptions. Exceptions to this designation are the Director of the Office of Enforcement and the Directors of the Divisions of Investigations, Energy Market Oversight, Audits, and Financial Regulation in the Office of Enforcement. This supplemental notice designates Shauna Coleman, an attorney in the Division of Investigations, Office of Enforcement, as an exception to the designation of the staff of the Office of Enforcement as non-decisional. Ms. Coleman joined the Commission after the February 1, 2008 notice was issued and did not participate in the investigation at issue in this proceeding.

Kimberly D. Bose,
Secretary.

[FR Doc. E8-10612 Filed 5-12-08; 8:45 am]

BILLING CODE 6717-01-P